DEPARTMENT OF THE INTERIOR

Bureau of Land Management

[19X.LLAKA02000.L16100000.DS0000. LXSS0L3l0000.241A]

Notice of Availability of the Supplemental Draft Environmental Impact Statement for the Haines Amendment to the Ring of Fire Resource Management Plan; Notice of Public Meeting

AGENCY: Bureau of Land Management, Interior

ACTION: Notice.

SUMMARY: The Bureau of Land Management (BLM), Glennallen Field Office is issuing for public comment the Supplemental Draft Environmental Impact Statement (EIS) for the Haines Amendment to the Ring of Fire Resource Management Plan. BLM Alaska will hold a public meeting in Haines to receive comments on the Haines Amendment Supplemental Draft EIS. The Supplemental Draft EIS will supplement the December 2012 Draft Resource Management Plan Amendment/Draft Environmental Impact Statement for the Haines Planning Area that originally analyzed which, if any, designations and associated management practices best fulfill the resource needs and multiple use demands within the Haines Planning Area.

DATES: To ensure that the BLM will consider your comments on the Haines Amendment Supplemental Draft EIS, BLM Alaska must receive your comments no later than August 1, 2019, which is 90 days after the Environmental Protection Agency published its notice of availability of the Haines Amendment Supplemental Draft EIS in the Federal Register. BLM Alaska will announce the date, time, and location of the public meeting in Haines on its website, through public notices, media news releases, and/or mailings.

ADDRESSES: You may provide comments by mail, email, online through ePlanning or in person. Mail comments to: Bureau of Land Management, Anchorage District Office, Attn: Haines Amendment, 4700 BLM Road, Anchorage, Alaska 99507, email comments to blm_ak_afo_rof_amend@blm.gov, or submit comments on BLM's ePlanning website. A link to Haines Amendment ePlanning page can be found on the project website at www.blm.gov/alaska/rof-haines-amendment. You may also review copies of the Haines Amendment Supplemental Draft EIS at the Glennallen Field Office or request a CD or paper copy of the Haines Amendment Supplemental Draft EIS by contacting Bruce Loranger, BLM project lead, at 907-267-1221.

FOR FURTHER INFORMATION CONTACT: Bruce Loranger, BLM Anchorage District Office, 907-267-1221. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Haines Amendment Supplemental Draft EIS analyzes which, if any, designations and associated management practices best fulfill the resource needs and multiple-use demands on approximately 326,000 acres of BLM-managed public lands within the Haines Planning Area. BLM has considered new information and developed supplemental alternatives to the previous Ring of Fire Draft Resource Management Plan Amendment. Decisions to be made include whether to retain or change special land area designations, whether to retain a monitor and control area for wildlife studies, and whether to establish a maximum number of annual helicopter landings on these BLM-managed public lands. The Ring of Fire Resource Management Plan was completed in 2006, but it did not address issues related to heli-skiing or its possible impacts to mountain goat habitat. Lynn Canal Conservation (LCC) filed a protest on the Final EIS for the Ring of Fire RMP because its recommendation for an Area of Critical Environmental Concern (ACEC) in the Haines Planning Area was not carried forward. LCC asserted a need for an ACEC due to the area's goat populations. The BLM's Record of Decision (ROD) for the Ring of Fire RMP issued in March 2008 acknowledged LCC's protest, but deferred action on an ACEC designation to a later planning effort. The BLM initiated a plan amendment in 2009 to address the commitment in the ROD, but that planning effort was paused because data was needed on goat and bear habitat for analysis of a proposed ACEC. The BLM funded a multi-year study of goat and bear habitat in the Haines area by the Alaska Department of Fish and Game which was completed in 2017. A nomination was received from both LCC and Chilkat Tribal Village for ACECs. An ACEC—Research Natural Area (RNA) of 77,797 acres in the North Block of the planning area is being considered. If approved, the ACEC would preclude the issuing of special recreation permits for helicopters and UAS (Unmanned Aerial System) use within the area. An ACEC would also restrict placement or construction of structures within the designated area and include a Right-of-Way (ROW) avoidance area. Portions of the ACEC-RNA on Takshanuk Ridge would be a ROW exclusion area and no surface disturbing activities would occur on these lands. Off-Road Vehicles used in support of military, fire, emergency, or law enforcement purposes, as well as any vehicle whose use is expressly authorized by the authorized officer (43 CFR part 8340.0-7) is exempt from the ACEC-RNA limitations. This amendment would resolve conflicts among heli-skiing Special Recreation Permit holders and others by providing a consistent approach to recreation management while balancing the need for wildlife habitat. The BLM is using data from the recently completed study of goat and bear habitat in the Haines Area to address concerns about wildlife populations while allowing the expansion of helicopter-supported recreation. BLM Alaska will hold a public meeting on the Haines Amendment Supplemental Draft EIS in Haines at a date and location to be announced.

Before including your address, phone number, email address, or other personally identifying information in your comment, you should be aware that your entire comment—including your personally identifying information—may be made publicly available at any time. While you can ask the BLM in your comment to withhold your personally identifying information from public review, we cannot guarantee that we will be able to do so.

Authority: 16 U.S.C. 3120(a); 40 CFR 1506.6(b).

Chad B. Padgett,
State Director, Alaska.

[FR Doc. 2019-09931 Filed 5-13-19; 8:45 am]

BILLING CODE 4310-JA-P